DEPARTMENT OF TRANSPORTATION

Federal Aviation Administration

14 CFR Part 39

[Docket No. FAA-2012-0603; Directorate Identifier 2012-NE-17-AD; Amendment 39-17160; AD 2012-16-13]

RIN 2120-AA64

Airworthiness Directives; BRP-Powertrain GmbH & Co KG Rotax Reciprocating Engines

AGENCY: Federal Aviation Administration (FAA), DOT.

ACTION: Final rule; request for comments.

SUMMARY: We are adopting a new airworthiness directive (AD) for BRP-Powertrain GmbH & Co KG Rotax 912 F2; 912 F3; 912 F4; 912 S2; 912 S3; and 912 S4 reciprocating engines. This AD requires replacing the pressure side fuel hose on certain fuel pumps and inspecting the carburetors connected to those fuel pumps for contamination within 5 flight hours after the effective date of this AD. This AD was prompted by reports of fuel pumps having pressure side fuel hoses not meeting the design specification. We are issuing this AD to prevent pressure side fuel hose deterioration and contamination of the carburetor, which could result in an in-flight engine shutdown, forced landing and damage to the airplane.

DATES: This AD becomes effective September 10, 2012.

We must receive comments on this AD by October 9, 2012.

The Director of the Federal Register approved the incorporation by reference of BRP-Powertrain GmbH & Co KG, Rotax Aircraft Engines Alert Service Bulletin No. ASB-912-061R1, dated May 31, 2012, listed in the AD as of September 10, 2012.

ADDRESSES: You may send comments by any of the following methods:

• Federal eRulemaking Portal: Go to http://www.regulations.gov and follow the instructions for sending your comments electronically.

• Mail: U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this AD, contact BRP-Powertrain GmbH & Co KG, Welser Strasse 32, A-4623 Gunskirchen, Austria, or go to: http://www.rotax-aircraft-engines.com. You may view this service information at the FAA, Engine & Propeller Directorate, 12 New England Executive Park, Burlington, MA 01803. For information on the availability of this material at the FAA, call 781-238-7125.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: 800-647-5527) is the same as the Mail address provided in the ADDRESSES section. Comments will be available in the AD docket shortly after receipt.

FOR FURTHER INFORMATION CONTACT: Alan Strom, Aerospace Engineer, Engine Certification Office, FAA, Engine & Propeller Directorate, 12 New England Executive Park, Burlington, MA 01803; email: alan.strom@faa.gov; phone: 781-238-7143; fax: 781-238-7199.

SUPPLEMENTARY INFORMATION:

Discussion

The European Aviation Safety Agency (EASA), which is the Technical Agent for the Member States of the European Community, has issued EASA AD 2012-0097-E, dated May 31, 2012, and AD 2012-0097R1, dated June 1, 2012 (referred to after this as “the MCAI”), to correct an unsafe condition for the specified products. The MCAI states:

Reports from the field confirmed a non-compliance of the pressure side fuel hoses installed on certain P/N 893114 fuel pumps, which may have resulted in a latent defect on a limited number of engines. The affected hoses may not be fuel resistant in accordance with the specification. This condition, if not corrected, could lead to detachment of particles from the fuel hose and irregularities in the carburetor function, possibly resulting in in-flight engine shutdown, and forced landing, damage to the aeroplane and injury to occupants.

You may obtain further information by examining the MCAI in the AD docket.

Relevant Service Information

BRP-Powertrain GmbH & Co KG has issued Alert Service Bulletin No. ASB-912-061R1, dated May 31, 2012. The actions described in this service information are intended to correct the unsafe condition identified in the MCAI.

FAA's Determination and Requirements of This AD

This product has been approved by the aviation authority of Austria, and is approved for operation in the United States. Pursuant to our bilateral agreement with the European Community, EASA has notified us of the unsafe condition described in the MCAI and service information referenced above. We are issuing this AD because we evaluated all information provided by EASA and determined the unsafe condition exists and is likely to exist or develop on other products of the same type design. This AD requires replacing the pressure side fuel hose on certain fuel pumps and inspecting the carburetors connected to those fuel pumps for contamination within 5 flight hours after the effective date of the AD.

FAA's Determination of the Effective Date

An unsafe condition exists that requires the immediate adoption of this AD. The FAA has found that the risk to the flying public justifies waiving notice and comment prior to adoption of this rule because the compliance time in this AD is within 5 flight hours after the effective date of the AD. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2012-0603; Directorate Identifier 2012-NE-17-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-16-13 BRP-Powertrain GmbH & Co. KG (formerly BRP-Rotax GmbH & Co KG, Bombardier-Rotax GmbH & Co. KG, and Bombardier-Rotax GmbH): Amendment 39-17160; Docket No. FAA-2012-0603; Directorate Identifier 2012-NE-17-AD.

(a) Effective Date

This airworthiness directive (AD) becomes effective September 10, 2012.

(b) Affected ADs

None.

(c) Applicability

This AD applies to BRP-Powertrain GmbH & Co KG Rotax 912 F2; 912 F3; 912 F4; 912 S2; 912 S3; and 912 S4 reciprocating engines, with a fuel pump part number (P/N) 893114 having a serial number (S/N) listed in Table 1 to paragraph (c) of this AD:

Table 1 to Paragraph (c)—Affected Fuel Pump S/Ns
11.3117 through 11.3325 inclusive.
11.4036 through 11.4355 inclusive.
11.4516 through 11.4595 inclusive.
12.0251 through 12.0270 inclusive.

(d) Reason

This AD was prompted by reports of fuel pumps having pressure side fuel hoses not meeting the design specification. We are issuing this AD to prevent pressure side fuel hose deterioration and contamination of the carburetor, which could result in an in-flight engine shutdown, forced landing and damage to the airplane.

(e) Actions and Compliance

Unless already done, within 5 flight hours after the effective date of the AD do the following:

(1) Replace the pressure side fuel hose on the fuel pump with a fuel hose eligible for installation on the pressure side of the fuel pump.

(2) Inspect the carburetors for contamination. Use paragraph 3.1.2 of BRP-Powertrain GmbH & Co KG, Rotax Aircraft Engines Alert Service Bulletin No. ASB-912-061R1, dated May 31, 2012, to perform your inspection.

(f) Definition

For the purpose of this AD, a fuel hose eligible for installation is one that was not from any of the affected fuel pumps with an S/N listed in Table 1 to paragraph (c) of this AD.

(g) Installation Prohibition

(1) After the effective date of this AD, do not install a P/N 893114 fuel pump with an S/N listed in Table 1 to paragraph (c) of this AD onto any engine, unless the pressure side fuel hose has been replaced as required by this AD.

(2) After the effective date of this AD, do not install a Rotax 912 engine with a P/N 893114 fuel pump with an S/N listed in Table 1 to paragraph (c) of this AD in any airplane unless it has been inspected and the pressure side fuel hose replaced as required by this AD.

(3) After the effective date of this AD, do approve for return to service any product or article with a fuel hose removed from a P/N 893114 fuel pump with an S/N listed in Table 1 to paragraph (c) of this AD.

(h) Alternative Methods of Compliance (AMOCs)

The Manager, Engine Certification Office, may approve AMOCs for this AD. Use the procedures found in 14 CFR 39.19 to make your request.

(i) Related Information

(1) For more information about this AD, contact Alan Strom, Aerospace Engineer, Engine Certification Office, FAA, Engine & Propeller Directorate, 12 New England Executive Park, Burlington, MA 01803; email: alan.strom@faa.gov; phone: 781-238-7143; fax: 781-238-7199.

(2) Refer to European Aviation Safety Agency AD 2012-0097-E, dated May 31, 2012, and AD 2012-0097R1, dated June 1, 2012, for related information.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) BRP-Powertrain GmbH & Co KG, Rotax Aircraft Engines Alert Service Bulletin No. ASB-912-061R1, dated May 31, 2012.

(ii) Reserved.

(3) For BRP-Powertrain GmbH & Co KG service information identified in this AD, contact BRP-Powertrain GmbH & Co KG, Welser Strasse 32, A-4623 Gunskirchen, Austria, or go to: http://www.rotax-aircraft-engines.com.

(4) You may view this service information at the FAA, Engine & Propeller Directorate, 12 New England Executive Park, Burlington, MA. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on July 30, 2012.
Peter A. White,
Manager, Engine & Propeller Directorate, Aircraft Certification Service.

[FR Doc. 2012-20748 Filed 8-23-12; 8:45 am]

BILLING CODE 4910-13-P